DEPARTMENT OF ENERGY

Federal Energy Regulatory Commission

[Docket No. CP03-330-000]

Tennessee Gas Pipeline Company; Notice of Application

July 25, 2003.

Take notice that on June 30, 2003, Tennessee Gas Pipeline Company (Tennessee), tendered for filing in Docket No. CP03-330-000, an application pursuant to section 7(b) of the Natural Gas Act (NGA), as amended, and part 157 of the regulations of the Federal Energy Regulatory Commission (Commission), requesting that the Commission issue an Order authorizing Tennessee's re-acquisition of capacity entitlement granted to Gulf Oil Corporation (Gulf), predecessor to Chevron U.S.A., Inc. (Chevron), and the abandonment of exchange service established under Rate Schedule T-139 between Tennessee and Gulf.

Tennessee states that upon issuance of the Commission's Order authorizing Tennessee's re-acquisition of the capacity entitlement and abandonment of the associated rate schedule, Chevron and Tennessee plan to execute the exhibits to an agreement to exchange and transfer assets. Pursuant to the agreement and exhibits, Tennessee is to abandon by sale its interest in VK Pipelines in exchange for Chevron's abandonment of capacity entitlement in Tennessee's Project Sabine Pipeline and from a portion of Tennessee's capacity entitlement in Transcontinental Gas Pipeline Corporations' Southwest Louisiana Gathering System. Tennessee's abandonment of its interest in the VK Pipelines will be accomplished under its Blanket Certificate and will facilitate Chevron's and Tennessee's plans to consolidate offshore holdings.

Any questions concerning this application may be directed to Jacques Hodges, Tennessee Gas Pipeline Company, call (832) 676-5509, fax (832) 676-2251.

This filing is available for review at the Commission or may be viewed on the Commission's Web site at http://www.ferc.gov, using the “FERRIS” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

There are two ways to become involved in the Commission's review of this project. First, any person wishing to obtain legal status by becoming a party to the proceedings for this project should, on or before the comment date file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

If the Commission decides to set the application for a formal hearing before an Administrative Law Judge, the Commission will issue another notice describing that process. At the end of the Commission's review process, a final Commission order approving or denying a certificate will be issued.

Comment Date: August 8, 2003.

Linda Mitry,
Acting Secretary.

[FR Doc. 03-19593 Filed 7-31-03; 8:45 am]

BILLING CODE 6717-01-P